DEPARTMENT OF THE TREASURY

Office of Foreign Assets Control

Additional Designations, Foreign Narcotics Kingpin Designation Act

AGENCY: Office of Foreign Assets Control, Treasury Department.

ACTION: Notice.

SUMMARY: The U.S. Department of the Treasury's Office of Foreign Assets Control (“OFAC”) is publishing the names of eight individuals and 20 entities whose property and interests in property have been blocked pursuant to the Foreign Narcotics Kingpin Designation Act (“Kingpin Act”) (21 U.S.C. 1901-1908, 8 U.S.C. 1182). In addition, OFAC is publishing an amendment to the identifying information of five individuals previously designated pursuant to the Kingpin Act.

DATES: The designation by the Director of OFAC of the eight individuals and 20 entities identified in this notice pursuant to section 805(b) of the Kingpin Act is effective on May 14, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On May 14, 2014, the Acting Director of OFAC designated the following eight individuals and 20 entities whose property and interests in property are blocked pursuant to section 805(b) of the Kingpin Act.

Individuals

1. CHEAITELLY SAHELI, Ali Hassan (a.k.a. CHEAITELLI, Hassan; a.k.a. “CHEAITELLY, Alex”); DOB 05 Sep 1983; POB Colon, Panama; Cedula No. 3-712-2418 (Panama) (individual) [SDNTK] (Linked To: PRODUCERS GROUP CORP.; Linked To: SANTA MARIA INTERNATIONAL TRADING CORP.; Linked To: SILVER HOUSE, INC.; Linked To: EUROCAMBIO, S.A.; Linked To: INMOBILIARIA DAVITOV S.A.; Linked To: FUNDACION H.M.M.).

2. DELAROSA RAMOS, Jibran (a.k.a. DE LA ROSA RAMOS, Jibran); DOB 10 Mar 1984; POB Juan Galindo, Mexico; Passport G01255779 (Mexico) (individual) [SDNTK] (Linked To: NETLLUX MOVIL S.A. DE C.V.).

3. MARTINEZ LASSO, Vielka Judith; DOB 09 Nov 1967; POB El Higo, San Carlos, Panama; Cedula No. 8-283-646 (Panama) (individual) [SDNTK] (Linked To: THEA HOLDING & CO., INC.; Linked To: INVERSIONES OMEGA INTERNACIONAL S.A.; Linked To: GCH & SONS CO., INC.; Linked To: EURO FINANCING, CORP.; Linked To: EUROCAMBIO INVESTMENT S.A.; Linked To: A.F.A.I. CORP.; Linked To: INVERSIONES TROL PANAMA S.A.; Linked To: EUROCAMBIO, S.A.; Linked To: BEAUTY STATION, S.A.).

4. MORAN SANCHEZ, Maria Janette (a.k.a. MORAN SANCHEZ, Janet); DOB 15 Nov 1956; POB Panama; Cedula No. 2-84-1948 (Panama) (individual) [SDNTK] (Linked To: BERLIN INDUSTRIES, CORP.; Linked To: INVERSIONES OMEGA INTERNACIONAL S.A.; Linked To: EURO FINANCING, CORP.; Linked To: EUROCAMBIO INVESTMENT S.A.; Linked To: BEAUTY STATION, S.A.; Linked To: INVERSIONES TROL PANAMA S.A.).

5. OMEARA NAVARRO, Marylu (a.k.a. OMEARA NAVARRO DE CHEAITELLY, Marylu; a.k.a. OMEARA NAVARRO, Mary Lu); DOB 12 Feb 1960; POB Colombia; Cedula No. E-8-101804; Passport AB304459 (Colombia) (individual) [SDNTK] (Linked To: INMOBILIARIA DAVITOV S.A.; Linked To: FUNDACION H.M.M.; Linked To: INVERSIONES OMEGA INTERNACIONAL S.A.).

6. PEREZ FABREGA, Margarita Ines; DOB 14 Aug 1976; POB Panama; citizen Panama; Cedula No. 9-700-1662 (Panama); Passport 1412336 (Panama) (individual) [SDNTK] (Linked To: EUROCAMBIO INVESTMENT S.A.; Linked To: GCH & SONS CO., INC.; Linked To: THEA HOLDING & CO., INC.; Linked To: BEAUTY STATION, S.A.; Linked To: BERLIN INDUSTRIES, CORP.; Linked To: A.F.A.I. CORP.; Linked To: INVERSIONES TROL PANAMA S.A.; Linked To: INVERSIONES OMEGA INTERNACIONAL S.A.).

7. PLATA MCNULTY, Jorge Alberto; DOB 01 Jun 1968; POB Panama; citizen Panama; Cedula No. 8-294-311 (Panama); Passport 1412335 (Panama) (individual) [SDNTK] (Linked To: EUROCAMBIO INVESTMENT S.A.; Linked To: THEA HOLDING & CO., INC.; Linked To: EURO FINANCING, CORP.; Linked To: GCH & SONS CO., INC.; Linked To: A.F.A.I. CORP.; Linked To: BEAUTY STATION, S.A.; Linked To: INVERSIONES TROL PANAMA S.A.; Linked To: INVERSIONES OMEGA INTERNACIONAL S.A.; Linked To: INMOBILIARIA DAVITOV S.A.; Linked To: BERLIN INDUSTRIES, CORP.).

8. PLATA RIVERA, Ignacio Eduardo; DOB 01 Jan 1935; POB Panama City, Panama; citizen Panama; Cedula No. 8-78-897 (Panama) (individual) [SDNTK] (Linked To: GENERAL COMMERCE OVERSEAS, INC.; Linked To: EURO FINANCING, CORP.; Linked To: EUROCAMBIO, S.A.).

Entities

1. A.F.A.I. CORP., Panama City, Panama; RUC # 1504531-1-648386 (Panama) [SDNTK].

2. BEAUTY STATION, S.A., Panama City, Panama; RUC # 2224264-1-776957 (Panama) [SDNTK].

3. BERLIN INDUSTRIES, CORP., Panama City, Panama; RUC # 748891-1-479617 (Panama) [SDNTK].

4. BERLIN INTERNACIONAL S.A., Colon, Panama; RUC # 4392-35-59025 (Panama) [SDNTK].

5. BIESTRA S.A., Carrera 35 No. 31-114, Palmira, Valle, Colombia; NIT # 800227340-7 (Colombia) [SDNTK].

6. C M F INTERNACIONAL, INC., Panama; RUC # 669832-1-462619 (Panama) [SDNTK].

7. EURO FINANCING, CORP., Panama; RUC # 1579574-1-662275 (Panama) [SDNTK].

8. EUROCAMBIO INVESTMENT S.A., Panama; RUC # 1561469-1-659119 (Panama) [SDNTK].

9. FAUSSE ISSA Y CIA. S. EN C., Calle 79 No. 44-34, Barranquilla, Colombia; NIT # 800061571-7 (Colombia) [SDNTK].

10. FUNDACION H.M.M., Panama City, Panama; RUC # 1767437-1-41487 (Panama) [SDNTK].

11. GCH & SONS CO., INC. (a.k.a. GCH AND SONS CO. INC.), Panama City, Panama; RUC # 1164157-1-574556 (Panama) [SDNTK].

12. GLOBANTY S.A.S., Calle 13 No. 10-45, Centro, Maicao, Guajira, Colombia; NIT # 900467096-6 (Colombia) [SDNTK].

13. INMOBILIARIA DAVITOV S.A., Panama City, Panama; RUC # 33672-51-252853 (Panama) [SDNTK].

14. INVERSIONES OMEGA INTERNACIONAL S.A., Panama; RUC # 1367799-1-621064 (Panama) [SDNTK].

15. INVERSIONES TROL PANAMA S.A., Panama; RUC # 1950017-1-731674 (Panama) [SDNTK].

16. LILIANA ESQUENAZI M. & CIA. S. C. S. (f.k.a. JAIME EDERY C. & CIA. S. EN C., a.k.a. LILIANA ESQUENAZI M. AND CIA. S. C. S.), Calle 18 Norte No. 3N-24, Cali, Colombia; NIT # 800243259-5 (Colombia) [SDNTK].

17. NETLLUX MOVIL S.A. DE C.V., Boulevard Hermanos Serdan No. 45 Penthouse, Colonia Amor, Puebla CP. 72140, Mexico [SDNTK].

18. RESTAURANTE BEIRUT MEXICO S.A. DE C.V. (a.k.a. RESTAURANTE BAR BEIRUT Y LAS MIL Y UNA NOCHES), Juan Salvador Agraz No. 50, Colonias Lomas de Santa Fe, Delegacion Cuajimalpa, Ciudad de Mexico, Mexico; RFC RBM-1000208-KB5 (Mexico) [SDNTK].

19. THEA HOLDING & CO., INC. (a.k.a. THEA HOLDING AND CO., INC.), Panama; RUC # 1166577-1-575203 (Panama) [SDNTK].

20. YORUMA SHIPPING COMPANY, S.A., Panama; RUC # 1420095-1-631618 (Panama) [SDNTK].

In addition, OFAC amended the identifying information for the following five individuals previously designated pursuant to the Kingpin Act:

1. CHEAITELLI SAHELI, Guiseppe Ali, c/o POLYTON (ASIA) LIMITED; DOB 10 Feb 1966; POB Maicao, La Guajira, Colombia; Cedula No. 84046545 (Colombia) (individual) [SDNTK].

2. EDERY CRIVOSEI, Jaime, c/o AGROPECUARIA LA PERLA LTDA.; c/o KPD S.A.; DOB 27 Aug 1957; POB Bogota, Colombia; Cedula No. 16588834 (Colombia) (individual) [SDNTK] Linked To: AGROPECUARIA LA PERLA LTDA.; Linked To: KPD S.A.

3. EL KHANSA, Mohamad Zouheir (a.k.a. TORRES ZAMBRANO, Manuel), c/o ALMACEN ELECTRO SONY STAR; c/o GLOBAL TECHNOLOGY IMPORT & EXPORT, S.A. (GTI); c/o MICRO EMPRESA ASHQUI; DOB 09 Jan 1971; alt. DOB 09 Jan 1970; POB Barranquilla, Colombia; POB Ghobeiri, Lebanon; Cedula No. 84077765 (Colombia); Passport RL 0736643 (Lebanon) (individual) [SDNTK]

4. FADLALLAH CHEAITELLY, Jorge (a.k.a. CHEAITELLY SAHELE, Jorge Ali; a.k.a. “GIORGIO”), c/o BODEGA ELECTRO GIORGIO; c/o EUROCAMBIO, S.A.; c/o GENERAL COMMERCE OVERSEAS, INC.; c/o PRODUCERS GROUP CORP.; c/o ZEDRO INVESTMENT, S.A.; c/o GIORGINO CORPORATION OF PANAMA, S.A.; c/o GIORGIO CHEAITELLY INVESTMENT, S.A.; c/o GIORGIOTELLY, S.A.; c/o III MILLENIUM INTERNATIONAL; c/o J.H. EXIM INTERNACIONAL, S.A.; c/o SANTA MARIA INTERNATIONAL TRADING CORP.; c/o SILVER HOUSE, INC.; c/o OCEAN INDIC OVERSEAS, S.A.; c/o JUNIOR INTERNATIONAL S.A.; DOB 20 Dec 1960; POB Maicao, La Guajira, Colombia; Cedula No. 17849451 (Colombia) (individual) [SDNTK].

5. ISSA FAWAZ, Benny (a.k.a. ISSA FAUSE, Benny), Calle 12, No. 10-79, Maicao, La Guajira, Colombia; Calle 13, No. 7-49, Barrio El Centro, Maicao, La Guajira, Colombia; c/o FAMILY FEDCO; c/o FEDCO IMPORT & EXPORT, S.A.; DOB 29 Sep 1974; POB Barranquilla, Colombia; Cedula No. 72204490 (Colombia); Passport 72204490 (Colombia) (individual) [SDNTK].

The listing for each of these individuals now appears as follows:

1. FADLALLAH CHEAITELLY, Jorge (a.k.a. CHEAITELLY SAHELE, Jorge Ali; a.k.a. “GIORGIO”); DOB 20 Dec 1960; POB Maicao, La Guajira, Colombia; Cedula No. 17849451 (Colombia) (individual) [SDNTK] (Linked To: RESTAURANTE BEIRUT MEXICO S.A. DE C.V.; Linked To: BODEGA ELECTRO GIORGIO; Linked To: EUROCAMBIO, S.A.; Linked To: GENERAL COMMERCE OVERSEAS, INC.; Linked To: PRODUCERS GROUP CORP.; Linked To: ZEDRO INVESTMENT, S.A.; Linked To: GIORGINO CORPORATION OF PANAMA, S.A.; Linked To: GIORGIO CHEAITELLY INVESTMENT, S.A.; Linked To: GIORGIOTELLY, S.A.; Linked To: III MILLENIUM INTERNATIONAL; Linked To: J.H. EXIM INTERNACIONAL, S.A.; Linked To: SANTA MARIA INTERNATIONAL TRADING CORP.; Linked To: SILVER HOUSE, INC.; Linked To: OCEAN INDIC OVERSEAS, S.A.; Linked To: JUNIOR INTERNATIONAL S.A.; Linked To: CAFE DU LIBAN, S.A.).

2. CHEAITELLI SAHELI, Guiseppe Ali; DOB 10 Feb 1966; POB Maicao, La Guajira, Colombia; Cedula No. 84046545 (Colombia) (individual) [SDNTK] (Linked To: THEA HOLDING & CO INC.; Linked To: C M F INTERNACIONAL, INC.; Linked To: GCH & SONS CO. INC.; Linked To: POLYTON (ASIA) LIMITED).

3. EDERY CRIVOSEI, Jaime; DOB 27 Aug 1957; POB Bogota, Colombia; Cedula No. 16588834 (Colombia) (individual) [SDNTK] (Linked To: LILIANA ESQUENAZI M. & CIA. S. C. S.; Linked To: BIESTRA S.A.; Linked To: AGROPECUARIA LA PERLA LTDA.; Linked To: KPD S.A.).

4. EL KHANSA, Mohamad Zouheir (a.k.a. TORRES ZAMBRANO, Manuel); DOB 09 Jan 1971; alt. DOB 09 Jan 1970; POB Barranquilla, Colombia; alt. POB Ghobeiri, Lebanon; Cedula No. 84077765 (Colombia); alt. Cedula No. E311790 (Colombia); Passport RL 0736643 (Lebanon) (individual) [SDNTK] (Linked To: GLOBANTY S.A.S.; Linked To: ALMACEN ELECTRO SONY STAR; Linked To: GLOBAL TECHNOLOGY IMPORT & EXPORT, S.A. (GTI); Linked To: MICRO EMPRESA ASHQUI).

5. ISSA FAWAZ, Benny (a.k.a. ISSA FAUSE, Benny), Calle 12, No. 10-79, Maicao, La Guajira, Colombia; Calle 13, No. 7-49, Barrio El Centro, Maicao, La Guajira, Colombia; DOB 29 Sep 1974; POB Barranquilla, Colombia; Cedula No. 72204490 (Colombia); Passport 72204490 (Colombia) (individual) [SDNTK] (Linked To: YORUMA SHIPPING COMPANY S.A.; Linked To: FAUSSE ISSA Y CIA. S. EN C.; Linked To: FAMILY FEDCO; Linked To: FEDCO IMPORT & EXPORT, S.A.).

Dated: May 14, 2014.
Barbara C. Hammerle,
Acting Director, Office of Foreign Assets Control.

[FR Doc. 2014-13052 Filed 6-4-14; 8:45 am]

BILLING CODE 4810-AL-P